DEPARTMENT OF TRANSPORTATION

Federal Aviation Administration

[Docket No. FAA-2012-0350]

Petition for Exemption; Summary of Petition Received

AGENCY: Federal Aviation Administration (FAA), DOT.

ACTION: Reopening of comment period.

SUMMARY: This action reopens the comment period for a Petition for Exemption that was published on June 12, 2012. The petition for exemption from Aircraft Owners and Pilots Association (AOPA) and Experimental Aircraft Association (EAA), if granted, would allow AOPA and EAA members to conduct certain operations of aircraft without having to hold an FAA-issued medical certificate.

DATES: The comment period for Docket No. FAA-2012-0350 is reopened until September 14, 2012.

ADDRESSES: You may send comments identified by docket number FAA-2012-0350 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: The FAA will post all comments it receives, without change, to http://www.regulations.gov, including any personal information the commenter provides. Using the search function of the docket Web site, anyone can find and read the electronic form of all comments received into any FAA docket, including the name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or Docket Operations in Room W12-140 of the West Building Ground Floor at 1200 New Jersey Avenue SE., Washington, DC, between 9 a.m. and 5 p.m., Monday through Friday, except Federal holidays.

FOR FURTHER INFORMATION CONTACT: Tyneka Thomas, ARM-105, Office of Rulemaking, Federal Aviation Administration, 800 Independence Avenue SW., Washington, DC 20591, telephone (202) 267-7626; email tyneka.l.thomas@faa.gov.

Background

On June 12, 2012, a summary of the AOPA/EAA petition was published in the Federal Register (77 FR 35103). Comments to that document were to be received on or before July 2, 2012.

By letter dated June 18, 2012, AOPA and EAA requested that the FAA extend the comment period for an additional 70 days. The petitioner states that the additional time is necessary to ensure the public has adequate time to provide substantive comments.

Reopening Comment Period

In accordance with § 11.47(c) of Title 14, Code of Federal Regulations, the FAA has reviewed the petition made by AOPA/EAA. The FAA has determined that reopening of the comment period is consistent with the public interest, and that good cause exists for taking this action.

Accordingly, the comment period for Docket No. FAA-2012-0350 is reopened until September 14, 2012.

Issued in Washington, DC, on July 3, 2012.
Lirio Liu,
Acting Director, Office of Rulemaking.

[FR Doc. 2012-16844 Filed 7-9-12; 8:45 am]

BILLING CODE 4910-13-P